DEPARTMENT OF TRANSPORTATION

Federal Highway Administration

[FHWA Docket No. FHWA-2013-0014]

Including Specific Pavement Types in Federal-aid Highway Traffic Noise Analyses

AGENCY: Federal Highway Administration (FHWA), DOT.

ACTION: Notice; request for comment.

SUMMARY: The FHWA requests input from stakeholders and interested parties on expanding the specific pavement types used in Federal-aid highway traffic noise analyses. Current highway traffic noise analyses rely on data from three pavement types: dense-graded asphaltic concrete (DGAC), open-graded asphaltic concrete (OGAC), and Portland cement concrete (PCC). Prediction of future noise levels is based on the “average” pavement type, calculated as the average of the DGAC and PCC vehicle noise emission levels.

The FHWA is issuing this Federal Register Notice to invite stakeholders and interested parties to provide comments and suggestions on whether and how to include additional pavement types in Federal-aid highway traffic noise analyses.

DATES: Comments must be received on or before July 8, 2013. Late comments will be considered to the extent practicable.

ADDRESSES: Mail or hand deliver comments to the U.S. Department of Transportation, Dockets Management Facility, Room W12-140, 1200 New Jersey Avenue SE., Washington, DC 20590, or fax comments to (202) 493-2251. Alternatively, comments may be submitted to the Federal eRulemaking portal at http://www.regulations.gov. All comments must include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically. Anyone is able to search the electronic form of all comments in any one of our dockets by the name of the individual submitting the comment (or signing the comment, if submitted on behalf of an association, business, or labor union). Anyone may review DOT's complete Privacy Act Statement in the Federal Register published on April 11, 2000 (Volume 65, Number 70, Pages 19477-78).

FOR FURTHER INFORMATION CONTACT: For questions about the program discussed herein, contact Mr. Mark Ferroni, Office of Natural Environment, (202) 366-3233, or via email at mark.ferroni@dot.gov. For legal questions, please contact Mr. Robert Black, Office of the Chief Counsel, (202) 366-1359, or via email at robert.black@dot.gov. Office hours are from 8:00 a.m. to 4:30 p.m., e.t., Monday through Friday, except Federal holidays.

SUPPLEMENTARY INFORMATION:

Electronic Access and Filing

You may submit or retrieve comments online through the Federal eRulemaking portal at: http://www.regulations.gov. The Web site is available 24 hours each day, 365 days each year. Please follow the instructions. Electronic submission and retrieval help and guidelines are available under the help section of the Web site. An electronic copy of this document may also be downloaded from the Office of the Federal Register's home page at: http://www.archives.gov and the Government Printing Office's Web page at: http://www.access.gpo.gov/nara.

Background

Section 109(i) of Title 23, United States Code authorizes FHWA to issue noise standards which are set forth in 23 CFR Part 772. Highway traffic noise analyses provide data for decisionmakers to make informed decisions on project alternatives and noise abatement measures. Current highway traffic noise analyses rely on data from three pavement types: DGAC, OGAC, and PCC. Prediction of future noise levels is based on the “average” pavement type, calculated as the average of the DGAC and PCC vehicle noise emission levels.

The FHWA remains actively involved in what the highway noise industry refers to as “low noise pavements” or “quieter pavements.” In 2003, the FHWA entered into the Quiet Pavement Pilot Program with the Arizona Department of Transportation, co-sponsored the 2004 International Scan on “Quieter Pavement Systems in Europe,” and funded several national workshops, trainings, and informational outreach pieces on this topic.

In 2005, the FHWA began funding the “Pavement Effects Implementation Study” (PEI) to look at ways to incorporate options to consider a wider range of asphaltic concrete and PCC pavements within the agency's traffic noise model. When using the term, “specific pavement types, ” within the Federal-aid highway traffic noise analyses, the FHWA is referring to these pavements used in the PEI Study, but also any other specific pavement that a highway agency may want to consider in their noise analysis. For more information on the PEI see: http://www.fhwa.dot.gov/environment/noise/traffic_noise_model/documents_and_references/pavement_effects_implementation_study/pei00.cfm).

Because of the evolution of the use of quiet pavements in the highway industry, the FHWA is interested in how some of these new technologies and techniques could potentially be integrated into the FHWA's noise program to offer the most flexibility and utility to our stakeholders. The FHWA requests input from stakeholders and other interested parties on including specific pavement types in Federal-aid highway traffic noise analyses. While the FHWA invites any comments regarding use of specific pavement types in Federal-aid highway traffic noise analyses, the following questions may serve as a guide:

(1) What is your position regarding the possible inclusion of specific pavement types in the Federal-aid highway traffic noise analysis process?

(a) If you support the inclusion of specific pavement types, explain why, how you think this should be implemented (from both a regulatory and procedural standpoint), and when this should be implemented.

(b) If you do not support the inclusion of specific pavement types, explain why (from both a regulatory and procedural standpoint), and what, if anything, the FHWA should do regarding tire-pavement noise in the highway traffic noise analysis and abatement process.

(2) Should highway agencies be required to use a more specific pavement type(s) in their future condition noise predictions?

(3) Should a State highway agency be required to maintain the specific pavement type it selected to reduce the noise impacts of a project to a level that resulted in a certain noise abatement measure?

(4) Should highway agencies be required to call a project a Type I project if the original pavement is replaced or overlaid with a louder pavement or when a pavement no longer is achieving its noise reduction?

(5) Should specific pavement types in the Federal-aid highway traffic noise analyses process be introduced as a pilot program?

(a) If you would support a pilot program, explain why, how many highway agencies should be selected to pilot this and, whether your agency would be willing to be a pilot State.

(b) If you do not support this as a pilot program, explain why you do not support this.

(6) Have you done or are you currently doing tire pavement noise research?

(a) If you have done or currently are doing tire pavement research: What is this research? Why are you doing this research? How are you or how do you plan on implementing this research? What are your goals regarding this research and/or its implementation?

(b) If you have not done or if you do not plan on doing tire pavement research, please explain why?

(7) Any additional comments?

Authority: 23 U.S.C. 101(a), 104, 109(d), 114(a), 217, 315, and 402(a); 23 CFR 1.32; and, 49 CFR 1.85.

Issued on: April 26, 2013.
Victor M. Mendez,
Administrator, Federal Highway Administration.

[FR Doc. 2013-10910 Filed 5-7-13; 8:45 am]

BILLING CODE 4910-22-P